DEPARTMENT OF COMMERCE

National Oceanic and Atmospheric Administration

50 CFR Part 226

[Docket No. 080730953-81003-01]

RIN 0648-AX04

Endangered and Threatened Wildlife and Plants: Proposed Rulemaking to Designate Critical Habitat for the Threatened Southern Distinct Population Segment of North American Green Sturgeon; Notification of Public Workshop; Correction

AGENCY: National Marine Fisheries Service (NMFS), National Oceanic and Atmospheric Administration (NOAA), Commerce.

ACTION: Notice of public workshop; correction to a proposed rule.

SUMMARY: We, NMFS, will convene a public workshop in Sacramento, CA on October 16, 2008, to collect information and to provide an opportunity for the public and other interested parties to comment on the proposed rulemaking to designate critical habitat for the threatened Southern Distinct Population Segment of North American green sturgeon. This document also contains a correction to the proposed rulemaking.

DATES: The public workshop will be held on Thursday, October 16, 2008, from 9 a.m. to approximately 5 p.m., Pacific Daylight Time.

ADDRESSES: The public workshop will be held at the Federal Building, CALFED Conference Room (5th Floor), 650 Capitol Mall, Sacramento, CA 95814-4706. Written comments may also be submitted by any of the following methods:

• Electronic submissions: Submit all electronic public comments via the Federal eRulemaking Portal: http://www.regulations.gov. Follow the instructions for submitting comments.

• Fax: 1-562-980-4027, Attention: Melissa Neuman.

• Mail: Submit written comments to the Chief, Protected Resources Division, Southwest Region, National Marine Fisheries Service, 650 Capitol Mall, Sacramento, CA 95814-4706.

Instructions: All comments received are a part of the public record and will generally be posted to http://www.regulations.gov without change. All Personal Identifying Information (for example, name, address, etc.) voluntarily submitted by the commenter may be publicly accessible. Do not submit confidential business information or orherwise sensitive or protected information

NMFS will accept anonymous comments (enter N/A in the required fields if you wish to remain anonymous). You may submit attachments to electronic comments in Microsoft Word, Excel, WordPerfect, or Adobe file fomats only.

Comments mailed, faxed, or electronically submitted must be received by 5 p.m. (PST) on November 7, 2008 to be considered.

FOR FURTHER INFORMATION CONTACT: Melissa Neuman, NMFS, Southwest Region, (562) 980-4115, Melissa.Neuman@noaa.gov, or Susan Wang, NMFS, Southwest Region, (562) 980-4199, Susan.Wang@noaa.gov.

SUPPLEMENTARY INFORMATION:

Background

The Southern Distinct Population Segment of North American green sturgeon (Acipenser medirostris; hereafter, “Southern DPS”) was listed as threatened under the Endangered Species Act (ESA) on April 7, 2006 (71 FR 17757). A proposed rule to designate critical habitat for the threatened Southern DPS of green sturgeon was published in the Federal Register on September 8, 2008 (73 FR 52084). The areas proposed for designation include: coastal U.S. marine waters within 110 meters (m) depth from Monterey Bay, California (including Monterey Bay), north to Cape Flattery, Washington, including the Strait of Juan de Fuca, Washington, to its United States boundary; the Sacramento River, lower Feather River, and lower Yuba River in California; the Sacramento-San Joaquin Delta and Suisun, San Pablo, and San Francisco bays in California; the lower Columbia River estuary; and certain coastal bays and estuaries in California (Humboldt Bay), Oregon (Coos Bay, Winchester Bay, and Yaquina Bay), and Washington (Willapa Bay and Grays Harbor). The areas proposed for designation comprise approximately 325 miles (524 km) of freshwater river habitat, 1,058 square miles (2,739 sq km) of estuarine habitat, 11,927 square miles (30,890 sq km) of coastal marine habitat, and 136 square miles (352 sq km) of habitat within the Yolo and Sutter bypasses (Sacramento River, CA).

Under section 7 of the ESA, Federal agencies would be required to insure that any actions they carry out, authorize, or fund do not destroy or adversely modify designated critical habitat. A wide range of agency actions may be subject to the ESA section 7 consultation process including, but not limited to: the installation and operation of hydropower dams; the installation and operation of water diversions; in-water construction or alterations; dredging operations and disposal of dredge material; NPDES permit activities and activities generating non-point source pollution (e.g., agricultural runoff); power plant operations; operations of liquefied natural gas (LNG) projects; tidal or wave energy projects; discharges from desalination plants; commercial shipping (e.g., discharges, oil spills); aquaculture; bottom trawl fisheries; and habitat restoration activities. We solicit additional information and comments from the public concerning this proposed rule, including information and comments on the biological basis supporting the proposed rule; the benefits of the proposed critical habitat designation to the Southern DPS of green sturgeon; and the economic, national security, and other relevant impacts of the proposed designation.

Public Workshop

Interested parties may contribute written or oral comments and information regarding the proposed critical habitat rule to NMFS during a public workshop on Thursday, October 16, 2008, from 9 a.m. to 5 p.m. at the Federal Building, CALFED Conference Room (5th Floor), 650 Capitol Mall, Sacramento, CA 95814-4706.

Please be advised that weapons, cameras, and cell phones with cameras are prohibited in the Federal building. Members of the public attempting to enter the building with any of these items will be denied access and will be asked to return said item(s) to their vehicles before entering the building.

Need for Correction to the Proposed Rulemaking

As published, the notice of proposed rulemaking (73 FR 52084; September 8, 2008) contains an error in the map of proposed critical habitat for the Southern DPS in California. The spatial extent of the Sacramento-San Joaquin Delta, California, as depicted on the overview map on page 52110, does not match the textual description of the Delta found in 50 CFR 226.216(a)(3)(i) of the proposed regulatory text. The textual description of proposed critical habitat in the Delta is correct, but the map is incorrect. This error may prove to be misleading and is in need of correction.

Correction

Accordingly, the proposed rule, published on September 8, 2008 at 73 FR 52084, is corrected as follows:

On page 52110, replace the map of proposed critical habitat for the Southern DPS of green sturgeon in California with the following map:

BILLING CODE 3510-22-S

Special Accommodations

The meeting location is physically accessible to people with disabilities. Requests for sign language interpretation or other auxiliary aids should be directed to Melissa Neuman (see ADDRESSES) at least 5 days prior to the meeting date.

Dated: September 30, 2008.
James W. Balsiger,
Acting Assistant Administrator for Fisheries, National Marine Fisheries Service.

[FR Doc. E8-23657 Filed 10-6-08; 8:45 am]

BILLING CODE 3510-22-C